DEPARTMENT OF ENERGY

Federal Energy Regulatory Commission

[Docket No. RP00-269-000]

Discovery Gas Transmission LLC; Notice of Cash-Out Report

May 9, 2000.

Take notice that on May 2, 2000, Discovery Gas Transmission LLC (Discovery) filed with the commission its annual cash-out report for the calendar year ended December 31, 1999.

Discovery states that the cash-out report reflects a net loss for this period of $277,063.64. The cumulative loss from cash-out transactions is $295,680.35. This loss will be carried forward to the subsequent reporting period.

Discovery states that copies of this filing are being mailed to its customers, state commissions and other interested parties.

Any person desiring to be heard or to protest said filing should file a motion to intervene or a protect with the Federal Energy Regulatory Commission, 888 First Street, NE, Washington, DC 20426, in accordance with sections 385.214 or 385.211 of the Commission's Rules and Regulations. All such motions or protests must be filed on or before May 16, 2000. Protests will be considered by the Commission in determining the appropriate action to be taken, but will not serve to make protestants parties to the proceedings. Any person wishing to become a party must file a motion to intervene. Copies of this filing are on file with the commission and are available for public inspection in the Public Reference Room. This filing may be viewed on the web at http://www.ferc.fed.us/online/rims.htm (call 202-208-2222 for assistance).

David P. Boergers,
Secretary.

[FR Doc. 00-12086 Filed 5-12-00; 8:45 am]

BILLING CODE 6717-01-M